DEPARTMENT OF ENERGY

Federal Energy Regulatory Commission

[Project No. 13606-000]

Natural Currents Energy Services, LLC; Notice of Preliminary Permit Application Accepted for Filing and Soliciting Comments, Motions To Intervene, and Competing Applications

February 4, 2010.

On October 21, 2009, and revised on December 23, 2009 and January 28, 2010, Natural Currents Energy Services, LLC, filed an application for a preliminary permit, pursuant to section 4(f) of the Federal Power Act, proposing to study the feasibility of the Gastineau Channel Tidal Energy Project, located on Gastineau Channel, in the City and Borough of Juneau, Alaska. The sole purpose of a preliminary permit, if issued, is to grant the permit holder priority to file a license application during the permit term. A preliminary permit does not authorize the permit holder to perform any land disturbing activities or otherwise enter upon lands or waters owned by others without the owners' express permission.

The proposed project would either attach turbines to the underside of an existing Coast Guard dock, or anchor the turbines to the bottom of the channel, and would consist of: (1) An existing approximately 100-foot-long by 30-foot-wide U.S. Coast Guard dock connected to the shore by an approximately 550-foot-long boardwalk extending into Gastineau Channel; (2) twelve 25-kilowatt (kW) Red Hawk in-stream turbine modules anchored to the bottom of the channel or attached to the underside of a pivoting t-dock with a total generating capacity of 300 kW; (3) one or more clusters of Tidal In-Stream Energy Conversion Devices (TISEC devices) to transmit the electricity from the turbines to the underwater transmission line; (4) an approximately 600-foot-long, 480-volt underwater transmission line connecting the TISEC device to an existing above-ground local distribution system; and (5) appurtenant facilities. The project would have an estimated average annual generation of 1,200 megawatt-hours.

Applicant Contact: Roger Bason, President, Natural Currents Energy Services, LLC, 24 Roxanne Boulevard, Highland, NY 12561; phone: (845) 691-4009.

FERC Contact: Jennifer Harper, 202-502-6136.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13606) in the docket number field to access the document. For assistance, contact FERC Online Support.

Kimberly D. Bose,
Secretary.

[FR Doc. 2010-3107 Filed 2-18-10; 8:45 am]

BILLING CODE 6717-01-P